DEPARTMENT OF TRANSPORTATION

Federal Aviation Administration

Notice of Passenger Facility Charge (PFC) Approvals and Disapprovals

AGENCY: Federal Aviation administration (FAA) DOT.

ACTION: Monthly Notice of PFC Approvals and Disapprovals. In December 2007, there were four applications approved. This notice also includes information on four other applications, approved in November 2007, inadvertently left off the November 2007 notice. Additionally, 15 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and part 158 of the Federal Aviation Regulations (14 CFR part 158). This notice is published pursuant to paragraph d of § 158.29.

PFC Applications Approved

Public Agency: City of Fort Smith, Arkansas.

Application Number: 07-04-C-00-FSM.

Application Type: Impose and use a PFC.

PFC Level: $4.50.

Total PFC Revenue Approved in This Decision: $1,250,000.

Earliest Charge Effective Date: January 1, 2009.

Estimated Charge Expiration Date: January 1, 2012.

Classes of Air Carriers Not Required To Collect PFCs: None.

Brief Description of Projects Approved for Collection and Use:

Boarding bridge installation.

Flight information display system.

Security systems improvements.

PFC administration costs.

Decision Date: November 20, 2007.

FOR FURTHER INFORMATION CONTACT: Jimmy Pierre, Arkansas/Oklahoma Airports Development Office, (817) 222-5637.

Public Agency: City of Atlanta, Georgia.

Application Number: 07-09-C-00-ATL.

Application Type: Impose and use a PFC.

PFC Level: $4.50.

Total PFC Revenue Approved in This Decision: $38,058,462.

Earliest Charge Effective Date: January 1, 2020.

Estimated Charge Expiration Date: April 1, 2020.

Class of Air Carriers Not Required To Collect PFCs: Air taxi/commercial operators.

Determination: Approved. Based on information contained in the public agency's application, the FAA has determined that the approved class accounts for less than 1 percent of the total annual enplanements at Hartsfield-Jackson Atlanta International Airport.

Brief Description of Project Approved for Collection and Use at a $4.50 PFC Level: Terminal area planning.

Brief Description of Projects Partially Approved for Collection and Use at a $4.50 PFC Level: Land acquisition for noise compatibility phase I.

Determination: This project is for the local share of several AIP grants. The public agency misstated the local share of these grants in their PFC application. The PFC amount is limited to the correct local share of these grants.

Aircraft rescue and firefighting facilities planning, design, and construction.

Determination: The FAA determined that two of the five proposed stations are not needed to meet FAA-mandated response times and thus are not eligible. In addition, the eligibility of each of the remaining three stations is limited to 10,700 square feet.

Decision Date: November 29, 2007.

FOR FURTHER INFORMATION CONTACT: Aimee McCormick, Atlanta Airports District Office, (404) 305-7143.

Public Agency: Golden Triangle Regional Airport Authority, Columbus, Mississippi.

Application Number: 08-06-C-00-GTR.

Application Type: Impose and use a PFC.

PFC Level: $4.50.

Total PFC Revenue Approved in This Decision: $52,500.

Earliest Charge Effective Date: October 1, 2015.

Estimated Charge Expiration Date: March 1, 2016.

Class of Air Carriers Not Required to Collect PFCs: None.

Brief Description of Projects Approved For Collection And Use:

Rehabilitation of commercial ramp.

Wildlife assessment and plan.

Decision Date: November 29, 2007.

FOR FURTHER INFORMATION CONTACT: David Shumate, Jackson Airports District Office, (601) 664-9882.

Public Agency: Ports of Douglas County and Chelan County, East Wenatchee, Washington.

Application Number: 08-08-C-00-EAT.

Application Type: Impose and use a PFC.

PFC Level: $4.50.

Total PFC Revenue Approved in This Decision: $365,332.

Earliest Charge Effective Date: February 1, 2008.

Estimated Charge Expiration Date: February 1, 2010.

Class of Air Carriers Not Required To Collect PFCs: None.

Brief Description of Projects Approved For Collection And Use:

Seal and restripe runway 12/30.

Acquire O'Kelley property.

Acquire Wagner property.

Acquire Snyder Land Holdings property.

Design new taxiway G.

Design for terminal building remodel.

Master plan update/runway extension study.

Decision Date: November 30, 2007.

FOR FURTHER INFORMATION CONTACT: Trang Tran, Seattle Airports District Office, (425) 227-1662.

Public Agency: City of Eugene, Oregon.

Application Number: 08-09-C-00-EUG.

Application Type: Impose and use a PFC.

PFC Level: $4.50.

Total PFC Revenue Approved in This Decision: $4,450,000.

Earliest Charge Effective Date: May 1, 2009.

Estimated Charge Expiration Date: December 1, 2011.

Class of Air Carriers Not Required to Collect PFCs: Nonscheduled/on-demand air carriers filing form FAA form 1800-31.

Determination: Approved. Based on information contained in the public agency's application, the FAA has determined that the approved class accounts for less than 1 percent of the total number annual enplanements at Mahlon Sweet Field—Eugene Airport.

Brief Description of Projects Approved For Collection And Use:

Terminal ramp rehabilitation-phase 1.

Relocate baggage screening area.

Decision Date: December 7. 2007.

FOR FURTHER INFORMATION CONTACT: Trang Tran, Seattle Airports District Office (425) 227-1662.

Public Agency: County of Alpena, Alpena, Michigan.

Application Number: 07-02-C-00-APN.

Application Type: Impose and use a PFC.

PFC Level: $4.50.

Total PFC Revenue Approved in This Decision: $193,959.

Earliest Charge Effective Date: August 1, 2008.

Estimated Charge Expiration Date: January 1, 2013.

Class of Air Carriers Not Required to Collect PFCs: Air taxi-commercial operators filing FAA Form 1800-31.

Determination: Approved. Based on information contained in the public agency's application, the FAA has determined that the approved class accounts for less than 1 percent of the total annual enplanements at Alpena County Regional Airport.

Brief Description of Projects Approved for Collection and Use:

PFC application preparation reimbursement.

PFC account audit fiscal year 2001-2005 reimbursement.

Construct snow removal equipment building, phase 1.

Rehabilitate taxiway lighting.

Snow removal equipment plow truck procurement.

Airport layout plan update.

Wildlife study.

New hangar area, expand parking lot, clearing.

Security fencing.

Runway 7/25 safety area improvements.

Snow removal equipment snow sweeper procurement.

Design of snow removal equipment building phase 2.

Exhibit “A” property map.

Terminal apron/entrance road lighting.

Construct snow removal equipment building phase 2 and sand storage building.

Snow removal equipment loader specifications.

Design of storm drain at retention pond.

Runway friction meter tester.

Snow removal equipment loader procurement.

Snow removal equipment sand spreader procurement.

Remarking taxiway and portion of runway 01/19 pavement.

Replacement of airfield signs.

Decision Date: December 14, 2007.

FOR FURTHER INFORMATION CONTACT: Jason Watt, Detroit Airports District Office, (734) 229-2906.

Public Agency: City of McAllen, Texas.

Application Number: 08-04-C-00-MFE.

Application Type: Impose and use a PFC.

PFC Level: $3.00

Total PFC Revenue Approved in This Decision: $3,460,375.

Earliest Charge Effective Date: October 1, 2010.

Estimated Charge Expiration Date: October 1, 2013.

Class of Air Carriers Not Required to Collect PFCs: None.

Brief Description of Projects Approved for Collection and Use:

Passenger boarding bridge.

Aircraft rescue and firefighting vehicle.

Pavement management system.

Access control system.

Bag belt conveyor.

Airfield electrical rehabilitation.

Decision Date: December 18, 2007.

FOR FURTHER INFORMATION CONTACT: Rodney Clark, Texas Airports Development Office, (817) 222-5659.

Public Agency: City of Dallas, Texas.

Application Number: 08-02-C-00-DAL.

Application Type: Impose and use a PFC.

PFC Level: $3.00.

Total PFC Revenue Approved in This Decision: $38,994,339.

Earliest Charge Effective Date: February 1, 2008.

Estimated Charge Expiration Date: October 1, 2011.

Class of Air Carriers Not Required to Collect PFCs: Air taxi/commercial operators filing FAA Form 1800-31.

Determination: Approved. Based on information contained in the public agency's application, the FAA has determined that the approved class accounts for less than 1 percent of the total annual enplanements at Dallas Love Field.

Brief Description of Projects Approved for Collection and Use:

Storm water outflow control system.

Runway safety area enhancements.

New field maintenance facility.

Taxiways C and K rehabilitation.

Aircraft rescue and firefighting vehicle—acquire 3,000-gallon replacement.

Perimeter road rehabilitation.

Rehabilitate runways.

Taxiways B, C, and N—construct and rehabilitate.

Runway lighting update.

Concourse aprons—east/west—rehabilitate.

Terminal rehabilitation.

Enhance security.

Service road rehabilitation.

Noise mitigation.

Conduct planning studies.

Acquire safety equipment.

Access road—rehabilitate.

Brief Description of Disapproved Project: Security controls enhancement (perimeter fence).

Determination: The proposed project are not required elements of the airport's security program. Therefore, the project was disapproved.

Decision Date: December 20, 2007.

FOR FURTHER INFORMATION CONTACT: Rodney Clark, Texas Airports Development Office, (817) 222-5659.

Amendments to PFC Approvals
Amendment No., city, state | Amendment approved date | Original approved net PFC revenue | Amended approved net PFC revenue | Original estimated charge exp. date | Amended estimated charge exp. date
92-01-C-05-BWI, Baltimore, MD | 11/07/07 | $225,826,453 | $189,381,695 | 11/01/02 | 11/01/02
94-02-C-03-BWI, Baltimore MD | 11/07/07 | 60,230,930 | 52,246,080 | 06/01/04 | 06/01/04
94-OC-C-04-BWI, Baltimore MD | 11/07/07 | 60,230,930 | 52,246,080 | 06/01/04 | 06/01/04
95-03-U-02-BWI, Baltimore, MD | 11/07/07 | NA | NA | 06/01/04 | 06/01/04
*06-03-C-01-FSM, Fort Smith, AR | 11/20/07 | 809,249 | 759,249 | 03/01/10 | 01/01/09
97-03-C-01 BNA, Nashville, TN | 11/29/07 | 1,475,000 | 1,439,174 | 10/01/99 | 10/01/99
97-04-C-01-BNA, Nashville, TN | 11/29/07 | 19,500,000 | 17,641,859 | 07/01/01 | 07/01/01
98-05-C-03-BNA, Nashville, TN | 11/29/07 | 2,855,000 | 2,651,686 | 10/01/01 | 10/01/01
99-05-C-02-BNA, Nashville, TN | 11/29/07 | 4,160,000 | 4,159,999 | 04/01/02 | 04/01/02
05-05-C-02-SUN, Hailey, ID | 11/30/07 | 746, 213 | 743, 988 | 08/01/07 | 08/01/07
05-10-C-03-MCO, Orlando, FL | 12/07/07 | 544,802,706 | 540,350,706 | 10/01/18 | 01/01/17
96-03-C-03-TUL, Tulsa, OK | 12/07/07 | 16,356,000 | 15,120,247 | 07/01/00 | 05/01/00
05-07-C-02-PNS, Pensacola, FL | 12/14/07 | 120,367,000 | 119,352,000 | 01/01/32 | 10/01/31
04-09-C-03-CRW, Charleston, WV | 12/18/07 | 7,609,184 | 7,719,526 | 08/01/11 | 09/01/11
04-07-C-01-STT, St. Thomas, USVI | 12/20/07 | 8,000,000 | 13,500,000 | 04/01/08 | 04/01/12
Note.—The amendment denoted by an asterisk (*) includes a change to the PFC level charged from $3.00 per enplaned passenger to $4.50 per enplaned passenger. For Fort Smith, AR, this change is effective on February 1, 2008.

Issued in Washington, DC, on January 8, 2008.
Joe Hebert,
Manager, Financial Analysis and Passenger Facility Charge Branch.

[FR Doc. 08-161 Filed 1-18-08; 8:45 am]

BILLING CODE 4910-13-M